DEPARTMENT OF THE TREASURY

Submission for OMB Review; Comment Request

January 19, 2010.

The Department of Treasury will submit the following public information collection requirements to OMB for review and clearance under the Paperwork Reduction Act of 1995, Public Law 104-13 on or after the date of publication of this notice. A copy of this submission may be obtained by calling the Treasury Department Office Clearance Officers listed. Comments regarding these information collections should be addressed to the OMB reviewer listed and to the Treasury PRA Clearance Officer, Department of the Treasury, 1750 Pennsylvania Avenue, NW., Suite 11010, Washington, DC 20220.

DATES: Written comments should be received on or before February 24, 2010 to be assured of consideration.

Office of Financial Stability (OFS)

OMB Number: 1505-0216.

Type of Review: Revision of a currently approved collection.

Title: Troubled Asset Relief Program—Making Home Affordable Participants.

Description: Authorized under the Emergency Economic Stabilization Act (EESA) of 2008 (Pub. L. 110-343), the Department of the Treasury has implemented several aspects of the Troubled Asset Relief Program (TARP). Among these components is a voluntary foreclosure prevention program—Making Home Affordable (MHA) program, under which the Department will use TARP capital to lower the mortgage payments of qualifying borrowers. The Treasury will do this through agreements with mortgage servicers to modify loans on their systems. All servicers are eligible to participate in the program.

Respondents: Private Sector: Businesses or other for-profit institutions.

Estimated Total Reporting Burden: 12,480 hours.

Recovery Act

OMB Number: 1505-0221.

Type of Review: Extension without change to a currently approved collection.

Title: Application for Section 1603: Payments for Specified Renewable Energy Property in Lieu of Tax Credit.

Form: TD F 101.1.

Description: Authorized under the American Recovery and Reinvestment Act (ARRA), hereafter Recovery Act, the Department of the Treasury is implementing several provisions of the Act, specifically Division B—Tax, Unemployment, Health, Fiscal Relief, and Other Provisions. Among these components is a program that requires Treasury to make payments, in lieu of a tax credit, to persons who place in service qualified renewable energy property. The collection of information is necessary to identify recipients and evaluate whether or not the property is qualified.

Respondents: State, Local, and Tribal Governments.

Estimated Total Reporting Burden: 2,000 hours.

OFS Clearance Officer: Daniel Abramowitz, OFS, 1801 L Street, NW., Washington, DC 20036; (202) 927-9645.

Recovery Act Clearance Officer: Ellen Neubauer, 1500 Pennsylvania Ave., NW., Room 2064D, Washington, DC 20220; (202) 622-5338.

OMB Reviewer: Shagufta Ahmed, Office of Management and Budget, New Executive Office Building, Room 10235, Washington, DC 20503; (202) 395-7873.

Dawn D. Wolfgang,
Treasury PRA Clearance Officer.

[FR Doc. 2010-1258 Filed 1-22-10; 8:45 am]

BILLING CODE 4810-25-P